DEPARTMENT OF HEALTH AND HUMAN SERVICES

Administration for Children and Families

Statement of Organization, Functions and Delegation of Authority; Republication

Editorial Note: FR Doc. E7-3306 originally published at page 8742 in the issue of Tuesday, February 27, 2007. The original publication contained erroneous text. As a result, the corrected document is being republished in its entirety.

Notice is hereby given that I have delegated to the Director, Office of Head Start, the following authority vested in me by the Secretary of Health and Human Services in a memorandum dated August 20, 1991, pertaining to the Head Start Program and the Child Development Associate Scholarship Assistance Grants Program.

(a) Authority Delegated

Authority to administer the Head Start Program under the Head Start Act, 42 U.S.C. 9801 et seq., and as amended now and hereafter. (This includes authority to administer the Early Head Start program.)

(b) Limitations

1. This delegation of authority shall be exercised under the Department's existing policies on delegations and regulations.

2. This delegation of authority does not include the authority to submit reports to Congress and shall be exercised under financial and administrative requirements applicable to all Administration for Children and Families' authorities.

3. The approval or disapproval of grant applications including refunding applications, the making of grant awards, the waiver of non-Federal share under 42 U.S.C. 9835(b), the waiver of fifteen percent administrative cost limitations under 42 U.S.C. 9839(b), and the approval of interim grantees under 42 U.S.C. 9836(e) requires concurrence of the appropriate Grants Officer. The approval or disapproval of contract proposals and awards is subject to the requirements of the Federal Acquisition Regulations and requires the concurrence of the Contracting Officer.

4. This delegation of authority does not include the authority to approve or disapprove awards for grants or contracts for research, demonstration, or evaluation under section 649 of the Head Start Act.

5. This delegation of authority does not include the authority to appoint Central Office or Regional Office Grant Officers for the administration of the Head Start Program.

6. This delegation of authority does not include the authority to appoint Action Officials for Audit Resolution.

7. This delegation of authority does not include the authority to sign and issue notices of grant awards.

8. This delegation of authority does not include the authority to hold hearings. This limitation does not include the “informal meetings” authorized in 45 CFR part 1303.

9. Any redelegation shall be in writing and prompt notification must be provided to all affected managers, supervisors, and other personnel, and requires the concurrence of the Deputy Assistant Secretary for Administration.

(c) Effect on Existing Delegations

As related to this delegation of authority, this delegation supersedes all previous delegations of authority involving the Head Start Program except the September 25, 2002, delegation to the Director, Office of Planning, Research and Evaluation relating to section 649 of the Head Start Act.

(d) Effective Date

This delegation is effective upon the date of signature.

I hereby affirm and ratify any actions taken by the Director, Office of Head Start, which involved the exercise of the authority delegated herein prior to the effective date of this delegation.

Dated: February 16, 2007.
Wade F. Horn,
Assistant Secretary for Children and Families.

[FR Doc. E7-3306 Filed 2-26-07; 8:45 am]

Editorial Note: FR Doc. E7-3306 originally published at page 8742 in the issue of Tuesday, February 27, 2007. The original publication contained erroneous text. As a result, the corrected document is being republished in its entirety.

[FR Doc. R7-3306 Filed 3-6-07; 8:45 am]

BILLING CODE 1505-01-D